DEPARTMENT OF HOUSING AND URBAN DEVELOPMENT

[Docket No. FR-5750-N-10]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Army: Ms. Veronica Rines, Office of the Assistant Chief of Staff for Installation Management, Department of Army, Room 5A128, 600 Army Pentagon, Washington, DC 20310, (571) 256-8145; Energy: Mr. David Steinau, Department of Energy, Office of Property Management, 1000 Independence Ave. SW., Washington, DC 20585 (202) 287-1503; GSA: Mr. Flavio Peres, General Services Administration, Office of Real Property Utilization and Disposal, 1800 F Street NW., Room 7040 Washington, DC 20405, (202) 501-0084; Health And Human Services: Ms. Theresa M. Ritta, Chief Real Property Branch, the Department of Health and Human Services, Room 5B-17, Parklawn Building, 5600 Fishers Lane, Rockville, MD 20857, (301) 443-2265; Interior: Mr. Michael Wright, Acquisition & Property Management, Department of the Interior, MS-4262, 1849 C Street, Washington, DC, 20240, (202) 513-0795; Navy: Mr. Steve Matteo, Department of the Navy, Asset Management Division, Naval Facilities Engineering Command, Washington Navy Yard, 1330 Patterson Ave. SW., Suite 1000, Washington, DC 20374; (202) 685-9426 (These are not toll-free numbers).

Dated: February 27, 2014.
Mark Johnston,
Deputy Assistant Secretary for Special Needs.

TITLE V, FEDERAL SURPLUS PROPERTY PROGRAM FEDERAL REGISTER REPORT FOR 03/07/2014

Suitable/Available Properties

Building

Alabama

40123

Fort Rucker

Fort Rucker AL 36362

Landholding Agency: Army

Property Number: 21201410011

Status: Unutilized

Comments: off-site removal only; 480 sq. ft.; 20+ yrs.-old; extensive termite & water damage; secured area; contact Army for accessibility/removal requirements.

4 Buildings

Redstone Arsenal

Redstone Arsenal AL 35898

Landholding Agency: Army

Property Number: 21201410026

Status: Unutilized

Directions: 3535 (150 sq. ft.); 3538 (48 sq. ft.); 4637 (2,095 sq. ft.); 7330 (75 sq. ft.)

Comments: off-site removal only; no future agency need; repairs needed; secured area; contact Army for more information.

Arkansas

Tract 12-113—Hebert Bernard

House

102 Groinger Dr.

Hot Springs AR 71901

Landholding Agency: Interior

Property Number: 61201410004

Status: Excess

Comments: off-site removal only; 1,269 sq. ft.; residential; severe deterioration; structurally unsound; contact Interior for more info.

California

2 Buildings

Camp Roberts MTC

Camp Roberts CA 93451

Landholding Agency: Army

Property Number: 21201410024

Status: Excess

Directions: 14102 (864 sq. ft.); 14801 (200 sq. ft.)

Comments: off-site removal only; 72+ yrs.-old; secured area; contact Army for accessibility/removal requirements.

7 Buildings

Fort Irwin

Fort Irwin CA 92310

Landholding Agency: Army

Property Number: 21201410027

Status: Unutilized

Directions: 359 (1,458 sq. ft.); 806 (5,328 sq. ft.); 807 (3,956 sq. ft.); 865 (2,928 sq. ft.); 1034 (2,160 sq. ft.); 1323 (3,664 sq. ft.); 9032 (6,038 sq. ft.)

Comments: off-site removal only; dissemble required; no future agency need; repairs needed; contamination; secured area; contact Army for more information.

Georgia

Building 1157

Hunter Army Airfield

Hunter Army Airfield GA 31409

Landholding Agency: Army

Property Number: 21201410033

Status: Excess

Comments: off-site removal only; 5,809 sq. ft.; poor conditions; secured area; gov't escort required; contact Army for more info.

Hawaii

00038

Pohakuloa Training Area

Hilo HI 96720

Landholding Agency: Army

Property Number: 21201410007

Status: Unutilized

Comments: off-site removal only; 102 sq. ft.; storage; 49+ yrs.-old; poor conditions; contact Army for more information.

Building 6004

Marine Corps Base

Kaneohe HI 96863

Landholding Agency: Navy

Property Number: 77201410005

Status: Excess

Comments: off-site removal only; disassembly required; 3,880 sq. ft.; storage/shop; 10+ yrs.-old; metal siding & roofing is heavily corroded; contact Navy for more information.

Illinois

Village Water Facility

Fermi National Accelerator Lab

Batavia IL 60510

Landholding Agency: Energy

Property Number: 41201410006

Status: Excess

Comments: off-site removal only; 1,257 sq. ft.; 53+ yrs.-old; storage; repairs needed; secured area; contact Energy for accessibility/removal requirements.

Trailer 159

Fermi National Accelerator Lab

Batavia IL 60510

Landholding Agency: Energy

Property Number: 41201410007

Status: Excess

Comments: off-site removal only; 980 sq. ft.; 23+ yrs.-olds; repairs needed; secured area; contact Energy for accessibility/removal requirements.

North Carolina

Greenville Site A Transmitting

Station

1000 Cherry Run Rd.

Greenville NC 27834

Landholding Agency: GSA

Property Number: 54201410008

Status: Excess

GSA Number: 4-Z-NC-0753

Directions: Landholding Agency: Broadcasting Board of Governors; Disposal: GSA; previously reported under 54201210002

Comments: main bldg. 54,318 sq. ft.; 40 transmitter antennas & 160 towers on the site; 12+ months vacant; fair conditions; asbestos/lead-based paint; environ. conditions; contact GSA for more info.

Texas

5 Buildings

Red River Army Depot

Texarkana TX 75507

Landholding Agency: Army

Property Number: 21201410025

Status: Excess

Directions: 467 (800 sq. ft.); 00676 (283 sq. ft.); 02091 (864 sq. ft.); 02257 (864 sq. ft.); 02325 (864 sq. ft.)

Comments: off-site removal only; removal may be difficult due to conditions/structure type; poor conditions; asbestos; secured area; contact Army for more information.

2 Buildings

Fort Hood

Ft. Hood TX 76544

Landholding Agency: Army

Property Number: 21201410034

Status: Excess

Directions: 90084 (13,125 sq. ft.); 90000 (217 sq. ft.)

Comments: off-site removal only; removal difficult due to structure type; contamination; secured area; contact Army for more info.

Building 4917

Fort Hood

Ft. Hood TX 76544

Landholding Agency: Army

Property Number: 21201410035

Status: Excess

Comments: off-site removal only; 404 sq. ft.; removal may be difficult due to structure type; secured area; contact Army for more info.

Washington

LK WEN RS BH TRLR

(1149.005511) 07672 00

Leavenworth WA 98826

Landholding Agency: Agriculture

Property Number: 15201410006

Status: Unutilized

Comments: 720 sq. ft.; residential; 38+ yrs.-old; water damaged due to broken water line; contact Agriculture for more information.

Liberty Airbase Trailer

(2131.005511) 07672 00

Liberty WA 98922

Landholding Agency: Agriculture

Property Number: 15201410007

Status: Unutilized

Comments: 320 sq. ft.; storage; 38+ yrs.-old; damaged due to break-ins; contact Agriculture for more information.

Wisconsin

06250

Fort McCoy

Fort McCoy WI 54656

Landholding Agency: Army

Property Number: 21201410013

Status: Unutilized

Comments: off-site removal only; no future agency need; 341 sq. ft.; 38+ yrs.-old; fair conditions; possible lead based paint; secured area; contact Army for more info.

Land

Montana

Turner Lots 7-12

Park Street

Turner MT 59542

Landholding Agency: GSA

Property Number: 54201410003

Status: Excess

GSA Number: 7-G-MT-0635

Comments: .96 aces; vacant; undeveloped; contact GSA for more information.

South Carolina

Marine Corps Reserve Training

Center

2517 Vector Ave.

Goose Creek SC 29406

Landholding Agency: GSA

Property Number: 54201410009

Status: Excess

GSA Number: 4-N-SC-0630-AA

Directions: Landholding Agency: Navy; Disposal Agency: GSA

Comments: 5.59 acres; contact GSA for more information.

South Dakota

Burke Radio Tower Site

290 St.

Burke SD 57523

Landholding Agency: GSA

Property Number: 54201410004

Status: Excess

GSA Number: 7-D-SD-0540

Directions: Disposal: GSA; Landholding: COE

Comments: 2.48 acres; vacant; contact GSA for more information.

Suitable/Unavailable Properties

Building

California

00806

Fort Hunter Liggett

Fort Hunter Liggett CA 93928

Landholding Agency: Army

Property Number: 21201410017

Status: Unutilized

Comments: off-site removal only; no future agency need; 1,600 sq. ft.; 60+ months vacant; poor conditions; exposed to elements/wildlife; secured area; contact Army for more info.

Building 573

Fort Irwin

Ft. Irwin CA 92310

Landholding Agency: Army

Property Number: 21201410037

Status: Unutilized

Comments: off-site removal only; 760 sq. ft.; disassembly maybe required; no future agency need; repairs needed; contamination; secured area; contact Army for more info.

Georgia

1096

Fort Stewart

Ft. Stewart GA 31314

Landholding Agency: Army

Property Number: 21201410001

Status: Excess

Comments: off-site removal only; due to structure type relocation may be difficult; poor conditions; 7,643 sq. ft.; secured area; contact Army for more information.

3 Buildings

Hunter Army Airfield

Hunter Army Airfield GA 31409

Landholding Agency: Army

Property Number: 21201410002

Status: Excess

Directions: 1126 (1,196 sq.); 1127 (1,196 sq. ft.); 1129 (5,376 sq. ft.)

Comments: off-site removal only; dissemble required; poor conditions; secured area; gov't escort required; contact Army for more information.

1124

Hunter Army Airfield

Hunter Army Airfield GA 31409

Landholding Agency: Army

Property Number: 21201410010

Status: Excess

Comments: off-site removal only; 1,188 sq. ft.; due to structure type relocation may be difficult; poor conditions; secured area; contact Army for more info.

Texas

8 Buildings

Fort Hood

Ft. Hood TX 76544

Landholding Agency: Army

Property Number: 21201410020

Status: Excess

Directions: 94030 (2,567 sq. ft.); 90083 (150 sq. ft.); 26011 (4,789 sq. ft.); 26010 (4,735 sq. ft.); 26009 (4,735 sq. ft.); 26008 (4,735 sq. ft.); 26007 (4,735 sq. ft.); 08640 (3,735 sq. ft.)

Comments: off-site removal only; removal difficult due to structure type; contamination; secured area; contact Army for more information.

9 Buildings

Fort Hood

Fort Hood TX 96544

Landholding Agency: Army

Property Number: 21201410021

Status: Excess

Directions: 04481 (48 sq. ft.); 4292 (1,830 sq. ft.); 4291 (6,400 sq. ft.); 04290 (674 sq. ft.); 4283 (8,940 sq. ft.); 4281 (2,000 sq. ft.); 04273 (687 sq. ft.); 04206 (651 sq. ft.); 04203 (2,196 sq. ft.)

Comments: off-site removal only; removal may be difficult due to structure type; secured area; contact Army for more information.

8 Buildings

Fort Hood

Fort Hood TX 76544

Landholding Agency: Army

Property Number: 21201410023

Status: Excess

Directions: 07035 (1,702 sq. ft.); 7008 (288 sq. ft.); 6987 (192 sq. ft.); 04643 (4,017 sq. ft.); 04642 (4,017 sq. ft.); 04619 (4,103 sq. ft.); 04496 (284 sq. ft.); 04495 (347 sq. ft.)

Comments: off-site removal only; removal may be difficult due to structure type; secured area; contact Army for more information.

8 Buildings

Fort Hood

Ft. Hood TX 76544

Landholding Agency: Army

Property Number: 21201410028

Status: Excess

Directions: 04163, 04165, 51015, 51016, 51017, 51018, 51019, 51020

Comments: off-site removal only; sq. ft. varies; secured area; contact Army for specific property and/or accessibility/removal requirements.

Washington

03215

Joint Base Lewis McChord

JBLM WA 98433

Landholding Agency: Army

Property Number: 21201410008

Status: Underutilized

Comments: off-site removal only; no future agency need; due to age/structure relocation may be difficult; 33,460 sq. ft.; 61+ yrs.-old; barracks; significant renovations; secured area; contact Army.

7 Buildings

Joint Base Lewis McChord

JBLM WA 98433

Landholding Agency: Army

Property Number: 21201410016

Status: Underutilized

Directions: 03216 (33,460 sq. ft.); 03218 (33,460 sq. ft.); 3219 (33,460 sq. ft.); 03222 (33,460 sq. ft.); 03224 (33,460 sq. ft.); 03417 (40,385 sq. ft.); 03418 (40,385 sq. ft.)

Comments: off-site removal only; no future agency need; due to age/structure type removal may be difficult; barracks; significant repairs needed; contact Army for more info.

Unsuitable Properties

Building

Massachusetts

Tract 21-4979; Maguire House

225 Ridgeway Dr.

Wellfleet MA 02267

Landholding Agency: Interior

Property Number: 61201410005

Status: Excess

Comments: documented Deficiencies: structurally unsound; partially collapsed; collapsed ceilings.

Reasons: Extensive deterioration

Ohio

2 Buildings

Ridge/Tusculum Ave.

Cincinnati OH 45213

Landholding Agency: HHS

Property Number: 57201410001

Status: Underutilized

Directions: 2, 6

Comments: w/in CDC secured campus; public access denied and no alternative to gain access w/out compromising national security.

Reasons: Secured Area

Pennsylvania

00026

Tobyhanna Army Depot

Tobyhanna PA 18466

Landholding Agency: Army

Property Number: 21201410036

Status: Underutilized

Comments: public access denied and no alternative method to gain access w/out compromising national security.

Reasons: Secured Area

4 Buildings

Cochrans Mills Rd.

Pittsburgh PA 15236

Landholding Agency: HHS

Property Number: 57201410002

Status: Underutilized

Directions: 3, 101, 140, 145

Comments: w/in CDC secured campus; public access denied and no alternative to gain access w/out compromising national security.

Reasons: Secured Area

10 Buildings

Cochrans Mills Rd.

Pittsburgh PA 15236

Landholding Agency: HHS

Property Number: 57201410003

Status: Unutilized

Directions: 115, 221, 227, 118, 223, 233, 224, 225, 206, 226

Comments: w/in CDC secured area; public access denied and no alternative to gain access w/out compromising national security.

Reasons: Secured Area

8 Buildings

NAS

Mechanicsburg PA

Landholding Agency: Navy

Property Number: 77201410002

Status: Excess

Directions: 215, 304, 406, 506, 507, 508, 509, 510

Comments: public access denied and no alternative to gain access w/out compromising national security.

Reasons: Secured Area

Building 202

Naval Support Activity

Mechanicsburg PA

Landholding Agency: Navy

Property Number: 77201410004

Status: Excess

Comments: public access denied and no alternative method to gain access w/out compromising w/out compromising national security.

Reasons: Secured Area

Tennessee

9 Bldgs.

Holston Army Ammo Plant

Kingsport TN 37660

Landholding Agency: Army

Property Number: 21201030021

Status: Unutilized

Directions: 249, 252, 253, 254, 255, 256, 302B, 315, 331

Comments: public access denied and no alternative method to gain access w/out compromising national security.

Reasons: Within 2000 ft. of flammable or explosive material, Secured Area

Virginia

Building No. 540

Joint Expeditionary Base Little Creek

VA Beach VA 23459

Landholding Agency: Navy

Property Number: 77201410010

Status: Unutilized

Comments: public access denied and no alternative method to gain access w/out compromising national security.

Reasons: Secured Area

Washington

Building 523

1400 Farragut Ave.

Bremerton WA 98314

Landholding Agency: Navy

Property Number: 77201410008

Status: Unutilized

Comments: public access denied and no alternative method to gain access w/out compromising national security.

Reasons: Secured Area

3 Buildings

1400 Farragut Ave.

Bremerton WA 98314

Landholding Agency: Navy

Property Number: 77201410009

Status: Underutilized

Directions: 461, 480, 500

Comments: public access denied and no alternative method to gain access w/out compromising national security.

Reasons: Secured Area

Land

Minnesota

Township 69; Tract 50-107

Linsten Cabin

Voyageurs National Park

Kabetogama Lake MN

Landholding Agency: Interior

Property Number: 61201410006

Status: Excess

Comments: property located on a small island & only accessible by boat.

Reasons: Not accessible by road, Isolated area

[FR Doc. 2014-04777 Filed 3-6-14; 8:45 am]

BILLING CODE 4210-67-P